ENVIRONMENTAL PROTECTION AGENCY

40 CFR Parts 52 and 81

[Docket No.: AK-04-001; FRL-7777-1]

Approval and Promulgation of Implementation Plans: State of Alaska; Anchorage Carbon Monoxide Nonattainment Area; Designation of Areas for Air Quality Planning Purposes

AGENCY: Environmental Protection Agency (EPA).

ACTION: Final rule.

SUMMARY: In this action, the EPA is approving the State of Alaska carbon monoxide (CO) maintenance plan for the Anchorage nonattainment area. EPA is also redesignating the Anchorage area from nonattainment to attainment for the National Ambient Air Quality Standard (NAAQS) for CO.

DATES: This final rule is effective on July 23, 2004.

ADDRESSES: EPA has established a docket for this action under Docket ID No. AK-04-001. Publicly available docket materials are available in hard copy at the EPA, Region 10, Office of Air, Waste and Toxics, 1200 Sixth Avenue, Seattle WA. This Docket facility is open from 8:30-4:00, Monday through Friday, excluding legal holidays. The Docket telephone number is (206) 553-4273.

FOR FURTHER INFORMATION CONTACT: Connie L. Robinson, Office of Air, Waste and Toxics (OAQ-107), EPA Region 10, 1200 Sixth Avenue, Seattle WA, 9810; telephone number: (206) 553-1086; fax number: (206) 553-0110; e-mail address: robinson.connie@epa.gov.

SUPPLEMENTARY INFORMATION: Throughout this document, wherever “we,” “us,” or “our” is used, we mean the EPA. Information is organized as follows:

I. Background

II. Public Comments on the Proposed Action

III. Final Action

IV. Statutory and Executive Order Reviews

I. Background

On May 10, 2004, EPA published in the Federal Register, a proposal to approve the Anchorage, Alaska CO maintenance plan SIP revision and to redesignate the Anchorage CO nonattainment area to “attainment” for CO. See 69 FR 25869.

The action to redesignate the Anchorage, Alaska nonattainment area to attainment for CO is based on valid monitoring data and projections of ambient air quality made in the maintenance demonstration that accompanies the maintenance plan. Air quality data shows that it has not recorded a violation of the primary or secondary CO air quality standards since 1996. EPA believes the area will continue to meet the National Ambient Air Quality Standards (NAAQS or standards) for CO for at least 10 years beyond this redesignation, as required by the Act.

A detailed description of our action to approve the Anchorage, Alaska CO maintenance plan and redesignation request was published in a proposed rulemaking in the Federal Register on May 10, 2004 (69 FR 25869).

II. Public Comments on the Proposed Action

EPA provided a 30-day review and comment period and solicited comments on our proposal published in the May 10, 2004, Federal Register. No comments were received for the proposed rulemaking. EPA is now taking final action on the SIP revision consistent with the published proposal.

III. Final Action

EPA is taking final action to approve the Anchorage CO Maintenance Plan and to redesignate the Anchorage CO nonattainment area to attainment. Alaska has demonstrated compliance with the requirements of section 107(d)(3)(E) based on information provided by the Municipality of Anchorage and contained in the Alaska SIP and Anchorage, Alaska CO maintenance plan. A Technical Support Document on file at the EPA Region 10 office contains a detailed analysis and rationale in support of the redesignation of Anchorage's CO nonattainment area to attainment.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by August 23, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Reporting and recordkeeping requirements.

40 CFR Part 81

Environmental protection, Air pollution control, National parks, and Wilderness areas.

Dated: June 16, 2004.
Ronald A. Kreizenbeck,
Acting Regional Administrator, Region 10.

Parts 52 and 81, chapter I, title 40 of the Code of Federal Regulations are amended as follows:

PART 52—[AMENDED]

1. The authority citation for part 52 continues to read as follows:

Authority: 42 U.S.C. 7401 et seq.

Subpart C—Alaska

2. Section 52.70 is amended by adding paragraph (c)(34) to read as follows:

§ 52.70 Identification of plan.

* * * * *

(c) * * *

(34) On February 18, 2004, the Alaska Department of Environmental Quality submitted a CO maintenance plan and requested the redesignation of Anchorage to attainment for CO. The State's maintenance plan, attainment year emissions inventory, and the redesignation request meet the requirements of the Clean Air Act.

(i) Incorporation by reference.

(A) 18AAC50.010, Ambient air quality standards, as effective June 21, 1998, except for subsections (7) and (8).

(B) 18AAC50.015, Air quality designations, classifications, and control regions, as in effect February 20, 2004.

(C) 18AAC53.010, Control periods and control areas, as in effect February 20, 2004.

(D) 18AAC53.190, Suspension and reestablishment of control period, as in effect February 20, 2004.

(E) 18AAC50.021, of the State Air Quality Control Plan, as referenced in (c)(19)(i)(C) of this section, effective April 23, 1994, is removed.

3. Paragraph (a)(1)(i) of § 52.73 is revised to read as follows:

§ 52.73 Approval of plans.

(a) * * *

(1) * * *

(i) EPA approves as a revision to the Alaska State Implementation Plan, the Anchorage Carbon Monoxide Maintenance Plan (Volume II Section III.B of the State Air Quality Control Plan, adopted January 2, 2004, effective February 20, 2004 and Volume III of the Appendices adopted January 2, 2004, effective February 20, 2004) submitted by the Alaska Department of Environmental Conservation on February 18, 2004.

PART 81—[AMENDED]

1. The authority citation for part 81 continues to read as follows:

Authority: 42 U.S.C. 7401 et seq.

2. In § 81.302, the table entitled “Alaska—Carbon Monoxide” is amended by revising the entry for “Anchorage Area Anchorage Election District (part)” to read as follows:

* * * * *

§ 81.302 Alaska.

Alaska—Carbon Monoxide
Designated area | Designation: Date ¹ | Designation: Type | Classification: Date ¹ | Classification: Type
Anchorage Area:
Anchorage Election District (part) Anchorage nonattainment area boundary | July 23, 2004 | Attainment
The Anchorage Nonattainment Area is contained within the boundary described as follows: Beginning at a point on the centerline of the New Seward Highway five hundred (500) feet of the centerline of O'Malley Road; thence, Westerly along a line five hundred (500) south of and parallel to the centerline of O'Malley Road and its westerly extension thereof to a point on the mean high tide line of the Turnagain Arm; thence, Northeasterly along the mean high tide line to a point five hundred (500) feet west of the southerly extension of the centerline of Sand Lake Road; thence, Northerly along a line five hundred (500) feet west of and parallel to the southerly extension of the centerline of Sand Lake Road to a point on the southerly boundary of the International Airport property; thence, Westerly along said property line of the International Airport to an angle point in said property line; thence, Easterly, along said property line and its easterly extension thereof to a point five hundred (500) feet west of the southerly extension of the centerline of Wisconsin Street; thence, Northerly along said line to a point on the mean high tide line of the Knik Arm; thence, Northeasterly along the mean high tide line to a point on a line parallel and five hundred (500) feet north of the centerline of Thompson Street and the westerly extension thereof; thence, Easterly along said line to a point five hundred (55) feet east of Boniface Parkway; thence, Southerly along a line five hundred (500) feet east of and parallel to the centerline of Boniface Parkway to a point five hundred (500) feet north of the Glenn Highway; thence, Easterly and northeasterly along a line five hundred (500) feet north of and parallel to the centerline of the Glenn Highway to a point five hundred (500) feet east of the northerly extension of the centerline of Muldoon Road; thence, Southerly along a line five hundred (500) feet east of and parallel to the centerline of Muldoon Road and continuing southwesterly on a line of curvature five hundred (500) feet southeasterly of the centerline of curvature where Muldoon Road becomes Tudor Road to a point five hundred (500) south of the centerline of Tudor Road; thence, Westerly along a line five hundred (500) feet south of the centerline of Tudor Road to a point five hundred (500) feet east of the centerline to Lake Otis Parkway; thence, Westerly along a line five hundred (500) feet south of the centerline of O'Malley Road, ending at the centerline of the New Seward Highway, which is the point of the beginning.
| * * * * * * *
¹ This date is November 15, 1990 unless otherwise noted.

* * * * *

[FR Doc. 04-14216 Filed 6-22-04; 8:45 am]

BILLING CODE 6560-50-P